DEPARTMENT OF HOMELAND SECURITY

Federal Emergency Management Agency

44 CFR Part 67

[Docket No. FEMA-B-7755]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before March 27, 2008.

ADDRESSES: The corresponding preliminary Flood Insurance Rate Map (FIRM) for the proposed BFEs for each community are available for inspection at the community's map repository. The respective addresses are listed in the table below.

You may submit comments, identified by Docket No. FEMA-B-7755, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001, et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001, et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Camden County, Georgia, and Incorporated Areas
St. Marys River | At the Charlton/Nassau/Camden County Boundary | None | +8 | Unincorporated Areas of Camden County.
| Approximately 460 feet downstream of the Charlton/Nassau/Camden County Boundary | None | +8
** BFEs to be changed include the listed downstream and upstream BFEs, and include BFEs located on the stream reach between the referenced locations above. Please refer to the revised Flood Insurance Rate Map located at the community map repository (see below) for exact locations of all BFEs to be changed.
* National Geodetic Vertical Datum.
+ North American Vertical Datum.
# Depth in feet above ground.
Send comments to William R. Blanton, Jr., Chief, Engineering Management Branch, Mitigation Directorate, Federal Emergency Management Agency, 500 C Street, SW., Washington, DC 20472.
ADDRESSES
Unincorporated Areas of Camden County
Maps are available for inspection at Camden County Planning and Building Department, 107 Gross Road, Suite 3, Kingsland, GA 31548.
Rapides Parish, Louisiana, and Incorporated Areas
Bayou Latanier | Approximately 180 feet downstream of Texas and Pacific Railroad (BFE REMAINS CONSTANT) | None | +68 | Unincorporated Areas of Rapides Parish.
| Approximately 535 feet upstream of State Highway 1 (BFE stays constant) | None | +68
Bayou Maria | Confluence with Red River | +92 | +87 | Unincorporated Areas of Rapides Parish.
| Approximately 425 feet downstream of Susek Drive intersection | +95 | +96
Tributary 13 | Confluence with Bayou Maria | +92 | +87 | Unincorporated Areas of Rapides Parish, City of Pineville.
| Approximately 250 feet upstream of Stilley Road | None | +110
Tributary 7 | Confluence with Bayou Maria | +92 | +87 | Unincorporated Areas of Rapides Parish.
| Intersection with Donohue Ferry Rd | +134 | +135
Tributary 8 | Confluence with Bayou Maria | +92 | +87 | Unincorporated Areas of Rapides Parish, City of Pineville.
| Intersection with Cottingham Expressway | +92 | +88
Bayou Wilson | Approximately 5400 feet upstream of Beauregard Road intersection | None | +59 | Unincorporated Areas of Rapides Parish.
| Approximately 7300 feet downstream of confluence with Bayou Wilson Tributary | None | +59
Tributary | Confluence with Bayou Wilson | None | +59 | Unincorporated Areas of Rapides Parish.
| Approximately 5000 feet from confluence with Bayou Wilson | None | +61
Compton Lake Canal | Approximately 150 feet downstream of intersection with LA HWY 1 | None | +62 | Unincorporated Areas of Rapides Parish.
| Approximately 3750 feet upstream of intersection with LA HWY 1 | None | +63
Kincaid Reservoir | Approximately 2500 feet southeast of SH 28 intersection (BFE IS CONSTANT) | None | +80 | Unincorporated Areas of Rapides Parish.
Oden Lake | Approximately 700 feet East of SH 165 (BFE IS CONSTANT) | None | +73 | Unincorporated Areas of Rapides Parish.
Poland Lateral | Confluence with Tiger Lake | None | +62 | Unincorporated Areas of Rapides Parish.
| Approximately 6400 feet upstream of Pearl Road intersection | None | +64
Red River | Approximately 1150 ft downstream of confluence with Huffman Creek | +92 | +87 | City of Pineville, City of Alexandria, Town of Boyce, Unincorporated Areas of Rapides Parish.
| Approximately 11,000 ft upstream of Missouri Pacific Railroad intersection | +98 | +91
Roxana Lateral | Confluence with Bayou Wilson | None | +59 | Unincorporated Areas of Rapides Parish.
| Approximately 150 feet downstream of intersection with SH 457 | None | +61
Sandy Bayou | Confluence with Chatlin Lake Canal | None | +73 | City of Alexandria.
| Approximately 80 feet downstream of 3rd Street intersection | None | +74
Tyler Lateral | Approximately 470 feet upstream from confluence with Indian Bayou | None | +62 | Unincorporated Areas of Rapides Parish.
| Approximately 325 feet upstream of Tyler Road intersection | None | +65
Weems Canal | Approximately 160 feet downstream of SH 71 intersection | +71 | +69 | Town of Lecompte.
| Approximately 1200 feet upstream of St. Charles Street intersection | +72 | +73
Whittington Lateral | Confluence with Compton Lake Canal | None | +64 | Unincorporated Areas of Rapides Parish.
| Intersection with Texas And Pacific Railroad (BFE remains constant) | None | +64
** BFEs to be changed include the listed downstream and upstream BFEs, and include BFEs located on the stream reach between the referenced locations above. Please refer to the revised Flood Insurance Rate Map located at the community map repository (see below) for exact locations of all BFEs to be changed.
* National Geodetic Vertical Datum.
# Depth in feet above ground.
+ North American Vertical Datum.
Send comments to William R. Blanton, Jr., Chief, Engineering Management Branch, Mitigation Directorate, Federal Emergency Management Agency, 500 C Street, SW., Washington, DC 20472.
ADDRESSES
City of Alexandria
Maps are available for inspection at 1546 Jackson St., Alexandria, LA 71309.
City of Pineville
Maps are available for inspection at 910 Main St., Pineville, LA 71360.
Town of Ball
Maps are available for inspection at 100 Municipal Lane, Ball, LA 71405.
Town of Boyce
Maps are available for inspection at PO Box 146, Boyce, LA 71409.
Town of Lecompte
Maps are available for inspection at 1302 Weems St., Lecompte, LA 71346.
Unincorporated Areas of Rapides Parish
Maps are available for inspection at 701 Murray, Alexandria, LA 71309.
Goodhue County, Minnesota, and Incorporated Areas
Belle Creek | At the confluence with the Cannon River | +708 | +709 | Unincorporated Areas of Goodhue County.
| Approximately 8,050 feet upstream of 390th Street | None | +1149
Cannon River | Approximately 4,570 feet upstream of Railroad Bridge | None | +686 | Unincorporated Areas of Goodhue County, City of Cannon Falls, City of Red Wing.
| Approximatley 8,120 feet upstream of State Highway 56 | None | +873
Gilbert Creek | Approximately 115 feet upstream of Railroad Bridge | None | +689 | Unincorporated Areas of Goodhue County.
| Approximately 980 feet upstream of County 5 Boulevard | None | +695
Hay Creek | Approximately 400 feet upstream of Old West Main Street | +690 | +689 | Unincorporated Areas of Goodhue County, City of Red Wing.
| Approximately 3,630 feet upstream of 350th Street | None | +1063
Little Cannon River | At the confluence with the Cannon River | +793 | +790 | Unincorporated Areas of Goodhue County, City of Cannon Falls.
| Approximately 7,045 feet upstream of 20th Avenue | None | +1094
Mississippi River | Located at the Goodhue/Wabasha County Line | +682 | +681 | Unincorporated Areas of Goodhue County, City of Lake City, City of Red Wing.
| Located at the Goodhue/Dakota County Line | +690 | +688
North Fork Zumbro River | Approximately 7,370 feet downstream of Main Street | +1012 | +1008 | Unincorporated Areas of Goodhue County, City of Wanamingo.
| Approximately 3,830 feet upstream of Main Street | +1023 | +1022
Pine Island Creek | Approximately 8,550 feet downstream of 230th Avenue | None | +996 | Unincorporated Areas of Goodhue County.
| Approximately 1,790 feet upstream of County 43 Boulevard | None | +1132
Wells Creek | At the confluence with the Mississippi River | +681 | +682 | Unincorporated Areas of Goodhue County.
| Approximately 6,000 feet upstream of County 45 Boulevard | None | +855
** BFEs to be changed include the listed downstream and upstream BFEs, and include BFEs located on the stream reach between the referenced locations above. Please refer to the revised Flood Insurance Rate Map located at the community map repository (see below) for exact locations of all BFEs to be changed.
* National Geodetic Vertical Datum.
+ North American Vertical Datum.
# Depth in feet above ground.
Send comments to William R. Blanton, Jr., Chief, Engineering Management Branch, Mitigation Directorate, Federal Emergency Management Agency, 500 C Street, SW., Washington, DC 20472.
ADDRESSES
City of Cannon Falls
Maps are available for inspection at City Offices Building, 918 River Road, Cannon Falls, MN 55009.
City of Lake City
Maps are available for inspection at City Hall, 205 West Center Street, Lake City, MN 55041.
City of Red Wing
Maps are available for inspection at Community Development Building, 419 Bush Street, Red Wing, MN 55066.
City of Wanamingo
Maps are available for inspection at City Hall, 401 Main Street, Wanamingo, MN 55983.
Unincorporated Areas of Goodhue County
Maps are available for inspection at Land Use Management Office, #102, 509 West Fifth Street, Red Wing, MN 55066.
Merrimack County, New Hampshire, and Incorporated Areas
Merrimack River | Approximately 1 mile downstream of confluence of Contoocook River | +251 | +252 | City of Concord.
| Approximately .7 miles downstream of confluence of Contoocook River | +251 | +252
Warner River | Approximately 0.98 mile downstream of State Route 127 | None | +362 | Town of Webster.
| Approximately 1,100 feet downstream of State Route 127 | None | +364
** BFEs to be changed include the listed downstream and upstream BFEs, and include BFEs located on the stream reach between the referenced locations above. Please refer to the revised Flood Insurance Rate Map located at the community map repository (see below) for exact locations of all BFEs to be changed.
* National Geodetic Vertical Datum.
+ North American Vertical Datum.
# Depth in feet above ground.
Send comments to William R. Blanton, Jr., Chief, Engineering Management Branch, Mitigation Directorate, Federal Emergency Management Agency, 500 C Street, SW., Washington, DC 20472.
ADDRESSES
City of Concord
Maps are available for inspection at City Hall, 41 Green Street, Concord, NH 03301.
Town of Webster
Maps are available for inspection at Town Hall, 945 Battle Street, Webster, NH 03303-7306.
Mitchell County, North Carolina, and Incorporated Areas
Bear Creek | At the confluence with North Toe River | None | +2459 | Unincorporated Areas of Mitchell County.
| Approximately 0.4 mile upstream of State Road 1197 | None | +2689
Beaver Creek | At the confluence with North Toe River | +2521 | +2515 | Unincorporated Areas of Mitchell County, Town of Spruce Pine.
| Approximately 1.9 miles upstream of Beaver Creek Road (State Road 1143) | None | +3350
Big Crabtree Creek | At the confluence with North Toe River | None | +2411 | Unincorporated Areas of Mitchell County.
| Approximatley 1.2 miles upstream of Seven Mile Ridge Road (State Road 1167) | None | +3129
Big Rock Creek | At the confluence with North Toe River | None | +2124 | Unincorporated Areas of Mitchell County.
| Approximately 0.6 mile upstream of NC Highway 226 | None | +2841
Brushy Creek | At the confluence with Big Crabtree Creek | None | +2508 | Unincorporated Areas of Mitchell County.
| Approximately 500 feet upstream of Road B | None | +2692
Cane Creek | At the confluence with North Toe River | None | +2243 | Unincorporated Areas of Mitchell County, Town of Bakersville.
| Approximately 800 feet upstream of State Road 1206 | None | +2894
Tributary 6 | At the confluence with Cane Creek | None | +2449 | Town of Bakersville.
| Approximately 620 feet upstream of Ridgeview Drive | None | +2477
Tributary 7 | At the confluence with Cane Creek | None | +2450 | Unincorporated Areas of Mitchell County, Town of Bakersville.
| Approximately 0.6 mile upstream of the confluence wiht Tributary of Cane Creek Tributary 7 | None | +2575
East Fork Grassy Creek | At the confluence with Grassy Creek | +2616 | +2617 | Unincorporated Areas of Mitchell County.
| Approximately 300 feet upstream of NC Highway 226 | None | +2677
English Creek | At the confluence with North Toe River | +2513 | +2510 | Town of Spruce Pine.
| Approximately 0.3 mile upstream of Greenwood Road | None | +2526
Grassy Creek | At the confluence with North Toe River | +2528 | +2525 | Unincorporated Areas of Mitchell County, Town of Spruce Pine.
| Approximately 300 feet upstream of Dula Road (State Road 1106) | None | +2656
Greene Cove Creek | At the confluence with Cane Creek | None | +2600 | Unincorporated Areas of Mitchell County.
| Approximately 800 feet upstream of Green Cove Road (State Road 1205) | None | +2671
Greene Creek | At the confluence with Little Rock Creek | None | +3148 | Unincorporated Areas of Mitchell County.
| Approximately 0.5 mile upstream of Green Cove Road (State Road 1223) | None | +3514
Little Rock Creek | At the confluence with Big Rock Creek | None | +2323 | Unincorporated Areas of Mitchell County.
| Approximately 2.0 miles upstream of Greene Creek Road (State Road 1223) | None | +3731
Little Rose Creek | At the confluence with North Toe River | None | +2560 | Unincorporated Areas of Mitchell County.
| Approximately 0.4 mile upstream of the confluence with North Toe River | None | +2592
Nolichucky River | Approximately 5.4 miles upstream of North Carolina/Tennessee State boundary | None | +1981 | Unincorporated Areas of Mitchell County.
| At the confluence of North Toe River | None | +2044
North Toe River | At the confluence with Nolichucky River | None | +2044 | Unincorporated Areas of Mitchell County, Town of Spruce Pine.
| Approximately 3.5 miles upstream of U.S. Highway 19 | None | +2681
Tributary 67 | At the confluence with North Toe River | None | +2453 | Unincorporated Areas of Mitchell County.
| Approximately 0.9 mile upstream of the confluence with North Toe River | None | +2577
Tributary of Cane Creek Tributary 7 | At the confluence with Cane Creek Tributary 7 | None | +2529 | Unincorporated Areas of Mitchell County, Town of Bakersville.
| Approximately 0.4 mile upstream of the confluence with Cane Creek Tributary 7 | None | +2569
White Oak Creek | At the confluence with Cane Creek | None | +2461 | Unincorporated Areas of Mitchell County, Town of Bakersville.
| Approximately 0.3 mile upstream of Crimson Laurel Way | None | +2489
Tributary 1 | At the confluence with White Oak Creek | None | +2472 | Unincorporated Areas of Mitchell County, Town of Bakersville.
| Approximately 770 feet upstream of Crimson Laurel Way | None | +2502
Young Cove Creek | At the confluence with Cane Creek | None | +2550 | Unincorporated Areas of Mitchell County.
| Approximately 940 feet upstream of the confluence with Cane Creek | None | +2563
** BFEs to be changed include the listed downstream and upstream BFEs, and include BFEs located on the stream reach between the referenced locations above. Please refer to the revised Flood Insurance Rate Map located at the community map repository (see below) for exact locations of all BFEs to be changed.
*National Geodetic Vertical Datum.
# Depth in feet above ground.
+North American Vertical Datum.
Send comments to William R. Blanton, Jr., Chief, Engineering Management Branch, Mitigation Directorate, Federal Emergency Management Agency, 500 C Street, SW., Washington, DC 20472.
ADDRESSES
Town of Bakersville
Maps are available for inspection at Bakersville Town Hall, 26 South Mitchell Street, Bakersville, NC.
Town of Spruce Pine
Maps are available for inspection at Spruce Pine Town Hall, 138 Highlands Avenue, Spruce Pine, NC.
Unincorporated Areas of Mitchell County
Maps are available for inspection at Mitchell County Administration Building, 26 Crimson Laurel Circle, Suite 5, Bakersville, NC.
Kay County, Oklahoma, and Incorporated Areas
Tributary B (Arkansas River) | At the confluence with Tributary C | +940 | +941 | City of Ponca City, Unincorporated Areas of Kay County.
| Approximately just downstream of the intersection of Hartford Avenue | +1041 | +1037
Tributary C (Arkansas River) | Upstream of Lake Road at the Confluence with Tributary B | +938 | +941 | City of Ponca City, Unincorporated Areas of Kay County.
| Approximately 100 feet upstream of the intersection of Donner Avenue | +1037 | +1038
Tributary D (Arkansas River) | At intersection with Lake Road | +939 | +943 | City of Ponca City, Unincorporated Areas of Kay County.
| Approximately 887 feet upstream from intersection with Kingston Road | +1040 | +1039
Tributary E (Arkansas River) | Upstream of Virginia Avenue at the intersection of East Overbrook Avenue | +968 | +970 | City of Ponca City, Unincorporated Areas of Kay County.
| Approximately 300 feet upstream of the intersection with Donahoe Drive | +991 | +994
Tributary G (Arkansas River) | Approximately 100 feet downstream of Seventh Street at the intersection with Poplar Avenue | +964 | +961 | City of Ponca City, Unincorporated Areas of Kay County.
| Approximately 100 feet upstream of Second Street | +988 | +990
Tributary G Left Tributary 1 (Arkansas River) | At the confluence with Tributary G (Arkansas River) | +963 | +962 | City of Ponca City, Unincorporated Areas of Kay County.
| Approximately 100 feet upstream of Virginia Avenue | +965 | +966
Tributary I (Arkansas River) | At the intersection with Seventh Street | +940 | +945 | City of Ponca City, Unincorporated Areas of Kay County.
| Approximately 290 feet upstream from intersection with S. 6th Street | +950 | +953
Tributary L (Bois d'Arc Creek) | At the intersection with North Flormable Street | +957 | +958 | City of Ponca City, Unincorporated Areas of Kay County.
| Approximately 100 feet upstream of Olympia Street | +975 | +978
Tributary M (Bois d' Arc Creek) | At the intersection with Highland Avenue | +965 | +967 | City of Ponca City, Unincorporated Areas of Kay County.
| At intersection with Bradley Avenue | +1034 | +1036
Tributary N (Bois d' Arc Creek) | Approximately 168 feet upstream from intersection with Oriole Street | +1027 | +1034 | City of Ponca City, Unincorporated Areas of Kay County.
| Approximately 2558 feet upstream from intersection with Oriole Street | +1044 | +1042 |
Tributary O (Bois d' Arc Creek) | At the intersection with Liberty Avenue | +984 | +986 | City of Ponca City, Unincorporated Areas of Kay County.
| Approximately 1038 feet upstream from intersection with Ast Street | +1010 | +1008 |
Tributary O Tributary (Bois d' Arc Creek) | Approximately 767 feet upstream from intersection with Liberty Avenue | +991 | +990 | City of Ponca City, Unincorporated Areas of Kay County.
| Approximately 2463 feet upstream from intersection with Liberty Avenue | +1000 | +1003 |
Tributary W (Arkansas River) | Approximately 222 feet upstream from intersection with LA Cann Drive | +934 | +933 | City of Ponca City, Unincorporated Areas of Kay County.
| Approximately 3099 feet upstream from intersection with LA Cann Drive | +990 | +985 |
** BFEs to be changed include the listed downstream and upstream BFEs, and include BFEs located on the stream reach between the referenced locations above. Please refer to the revised Flood Insurance Rate Map located at the community map repository (see below) for exact locations of all BFEs to be changed.
* National Geodetic Vertical Datum.
# Depth in feet above ground.
+ North American Vertical Datum.
Send comments to William R. Blanton, Jr., Chief, Engineering Management Branch, Mitigation Directorate, Federal Emergency Management Agency, 500 C Street, SW., Washington, DC 20472.
ADDRESSES
City of Blackwell
Maps are available for inspection at 221 West Blackwell, Blackwell, OK 74631.
City of Kaw City
Maps are available for inspection at 115 South Maple, Newkirk, OK 74647.
City of Newkirk
Maps are available for inspection at 107 Main Street, Newkirk, OK 74647.
City of Ponca City
Maps are available for inspection at 516 East Grand, Ponca City, OK 74607.
City of Tonkawa
Maps are available for inspection at 113 South 7th Street, Tonkawa, OK 74653.
Town of Braman
Maps are available for inspection at 302 Broadway, Braman, OK 74632.
Unincorporated Areas of Kay County
Maps are available for inspection at 115 South Maple, Newkirk, OK 74647.
Adams County, Pennsylvania, and Incorporated Areas
Bermudian Creek | At approximately 1600 feet downstream of Oxford Road LR-01004 | None | +612 | Township of Tyrone.
| At approximately 175 feet upstream of Cranberry Road LR-010011 | None | +640 |
Little Marsh Creek. | At approximately 735 feet downstream of Berry Patch Lane | None | +644 | Township of Franklin.
| At approximately 935 feet upstream of Hickory Bridge Road TR-315 | None | +702 |
Marsh Creek | At approximately 700 feet upstream of Pumping Station Road | None | +467 | Township of Cumberland.
| At approximately 1725 feet downstream of the confluence with Little Marsh Creek | None | +498 |
Toms Creek | At Approximately 3200 feet upstream of Jacks Mountain Road | None | +630 | Township of Hamiltonban.
| At approximately 3500 feet upstream of Jacks Mountain Road | None | +635 |
** BFEs to be changed include the listed downstream and upstream BFEs, and include BFEs located on the stream reach between the referenced locations above. Please refer to the revised Flood Insurance Rate Map located at the community map repository (see below) for exact locations of all BFEs to be changed.
* National Geodetic Vertical Datum.
# Depth in feet above ground.
+ North American Vertical Datum.
Send comments to William R. Blanton, Jr., Chief, Engineering Management Branch, Mitigation Directorate, Federal Emergency Management Agency, 500 C Street, SW., Washington, DC 20472.
ADDRESSES
Township of Cumberland
Maps are available for inspection at 1370 Fairfield Road, Gettysburg, PA 17325.
Township of Franklin
Maps are available for inspection at 55 Scott School Road, Cashtown, PA 17353.
Township of Hamiltonban
Maps are available for inspection at 23 Carroll's Tract Road, Fairfield, PA 17320.
Township of Tyrone
Maps are available for inspection at 5280 Old Harrisburg Road, York Springs, PA 17372.
Codington County, South Dakota, and Incorporated Areas
East Branch Roby Creek | 200 feet east of 11th Street Northeast | None | +1767 | Unincorporated Areas of Codington County, City of Watertown.
| 14th Avenue Northeast | None | +1777 |
| 400 feet west of 7th Street Northeast | None | +1760 | City of Watertown, Unincorporated Areas of Codington County.
| 200 feet west of 11th Street Northeast | None | +1765 |
Lake Kampeska | 200 feet northeast of intersection of 448th Avenue and U.S. Highway 212 | None | +1725 | Unincorporated Areas of Codington County, City of Watertown.
| 100 feet west of intersection of 452nd Avenue and Stadheim Drive | None | +1725 | City of Watertown, Unincorporated Areas of Codington County.
Pelican Lake | 700 feet north of intersection of 174th Street and 452nd Avenue | None | +1717 | Unincorporated Areas of Codington County, City of Watertown.
| Junction of 21st Street SW and 12th Avenue SW | None | +1717 | City of Watertown, Unincorporated Areas of Codington County.
Roby Creek | 4500 feet downstream from U.S. Highway 212 | None | +1715 | City of Watertown.
| 100 feet West of U.S. Highway 81 | None | +1770
** BFEs to be changed include the listed downstream and upstream BFEs, and include BFEs located on the stream reach between the referenced locations above. Please refer to the revised Flood Insurance Rate Map located at the community map repository (see below) for exact locations of all BFEs to be changed.
* National Geodetic Vertical Datum.
+ North American Vertical Datum.
# Depth in feet above ground.
Send comments to William R. Blanton, Jr., Chief, Engineering Management Branch, Mitigation Directorate, Federal Emergency Management Agency, 500 C Street, SW., Washington, DC 20472.
ADDRESSES
City of Watertown
Maps are available for inspection at 23 Second St. NE, Watertown, SD 57201.
Unincorporated Areas of Codington County
Maps are available for inspection at 14 1st Avenue Southeast, Watertown, SD 57201.
Adams County, Washington, and Incorporated Areas
Paha Creek | Approximately 1400 feet downstream of Division Street Bridge | +1791 | +1790 | City of Ritzville, Unincorporated Areas of Adams County.
| Approximately 800 feet upstream of Fairgrounds footbridge | +1807 | +1806
** BFEs to be changed include the listed downstream and upstream BFEs, and include BFEs located on the stream reach between the referenced locations above. Please refer to the revised Flood Insurance Rate Map located at the community map repository (see below) for exact locations of all BFEs to be changed.
*National Geodetic Vertical Datum.
+North American Vertical Datum.
# Depth in feet above ground.
Send comments to William R. Blanton, Jr., Chief, Engineering Management Branch, Mitigation Directorate, Federal Emergency Management Agency, 500 C Street, SW., Washington, DC 20472.
ADDRESSES
City of Ritzville
Maps are available for inspection at 216 E. Main Avenue, Ritzville, WA 99169.
Unincorporated Areas of Adams County
Maps are available for inspection at 210 W. Alder, Ritzville, WA 99169.
Grant County, Washington, and Incorporated Areas
Crab Creek | Just above BNSF Railroad Bridge 338 | +1282 | +1277 | Town of Wilson Creek, Unincorporated Areas of Grant County.
| Approximately 1300 feet upstream of Kappel Road Bridge | +1284 | +1283
Wilson Creek | At confluence with Crab Creek | +1284 | +1283 | Town of Wilson Creek, Unincorporated Areas of Grant County.
| At eastern corporate limits of the Town of Wilson Creek | +1303 | +1301
** BFEs to be changed include the listed downstream and upstream BFEs, and include BFEs located on the stream reach between the referenced locations above. Please refer to the revised Flood Insurance Rate Map located at the community map repository (see below) for exact locations of all BFEs to be changed.
* National Geodetic Vertical Datum.
+ North American Vertical Datum.
# Depth in feet above ground.
Send comments to William R. Blanton, Jr., Chief, Engineering Management Branch, Mitigation Directorate, Federal Emergency Management Agency, 500 C Street, SW., Washington, DC 20472.
ADDRESSES
Town of Wilson Creek
Maps are available for inspection at 254 Railroad Street, Wilson Creek, WA 98860.
Unincorporated Areas of Grant County
Maps are available for inspection at 124 Enterprise Street SE, Ephrata, WA 98823.
Green Lake County, Wisconsin, and Incorporated Areas
Silver Creek | At County Highway A | +803 | +802 | Unincorporated Areas of Green Lake County.
| Approximately 2.1 miles upstream of Spaulding Hill Road at the County Boundary | +807 | +804
** BFEs to be changed include the listed downstream and upstream BFEs, and include BFEs located on the stream reach between the referenced locations above. Please refer to the revised Flood Insurance Rate Map located at the community map repository (see below) for exact locations of all BFEs to be changed.
* National Geodetic Vertical Datum.
# Depth in feet above ground.
+ North American Vertical Datum.
Send comments to William R. Blanton, Jr., Chief, Engineering Management Branch, Mitigation Directorate, Federal Emergency Management Agency, 500 C Street, SW., Washington, DC 20472.
ADDRESSES
Unincorporated Areas of Green Lake County
Maps are available for inspection at Zoning Department, 492 Hill Street, Green Lake, WI 54941.
Racine County, Wisconsin, and Incorporated Areas
Bartlett Branch | At the confluence with Pike River | +682 | +686 | Unincorporated Areas of Racine County.
| Approximately 70 feet downstream of County Highway C | None | +693
Chicory Creek | Approximately 570 feet upstream of the confluence with Pike River | +669 | +668 | Unincorporated Areas of Racine County, Village of Sturtevant.
| At the downstream side of 105th Street | +723 | +722
East/West Canal | At the confluence with North Cape Lateral | None | +788 | Unincorporated Areas of Racine County.
| Approximately 40 feet downstream of U.S. Highway 45 | None | +788
Fonk's Tributary | Approximately 200 feet upstream of the confluence with Union Grove Industrial Tributary | None | +746 | Unincorporated Areas of Racine County.
| Approximately 4,880 feet upstream of the confluence with Union Grove Industrial Tributary | None | +781
Kilbourn Road Ditch | At County Line Road | +729 | +726 | Unincorporated Areas of Racine County.
| Approximately 2,400 feet downstream of Interstate 94 | None | +734
Lamparek Creek | At the confluence with the Pike River | +661 | +660 | Unincorporated Areas of Racine County.
| At the downstream side of 105th Street | +714 | +713
Nelson Creek | At County Line Road | None | +619 | Unincorporated Areas of Racine County.
| At the upstream side of Garden Drive | None | +642
North Cape Lateral | Approximately 30 feet upstream of Britton Road | None | +774 | Unincorporated Areas of Racine County.
| Approximately 2,350 feet upstream of the confluence with East/West Canal | None | +789
Pike River | At County Line Road | +657 | +658 | Unincorporated Areas of Racine County, City of Racine.
| Approximately 80 feet downstream of Spring Street | None | +688
Root River | At mouth at Lake Michigan | +583 | +584 | City of Racine.
| Approximately 825 feet upstream of Memorial Drive | +586 | +587
Sorenson Creek. | At County Line Road | +614 | +617 | Unincorporated Areas of Racine County, City of Racine.
| Approximately 75 feet downstream of Meachem Road | None | +654
Union Grove Industrial Tributary. | At County Line Road | +738 | +743 | Unincorporated Areas of Racine County, Village of Union Grove.
| Approximately 30 feet downstream of Durand Avenue/State Highway 11 | None | +771
Unnamed Tributary No. 18 to Kilbourn Road Ditch | Approximately 1,110 feet downstream of Interstate 94 | +732 | +733 | Unincorporated Areas of Racine County.
| Approximately 150 feet downstream of Interstate 94 | None | +742
Unnamed Tributary No. 2 to West Branch Root River Canal | Approximately 30 feet upstream of Raymond Avenue | +704 | +705 | Unincorporated Areas of Racine County.
| Approximately 3,300 feet downstream of 65th Drive | None | +751
Unnamed Tributary No. 37 to Des Plaines River | Approximately 2,675 feet downstream of 69th Street | +713 | +712 | Unincorporated Areas of Racine County.
| Approximately 70 feet downstream of 69th Street | None | +730
Unnamed Tributary No. 38 to Des Plaines River | At the confluence with the Des Plaines River | None | +710 | Unincorporated Areas of Racine County.
| Approximately 2,750 feet upstream of Durand Avenue/State Highway 11 | None | +762
Unnamed Tributary No. 39 to Des Plaines River | At the confluence with the Des Plaines River | None | +710 | Unincorporated Areas of Racine County.
| Approximately 170 feet downstream of County Line Road | None | +746
Unnamed Tributary to Unnamed Tributary No. 2 to West Branch Root River Canal | Approximately 250 feet upstream of 65th Drive | None | +720 | Unincorporated Areas of Racine County.
| Approximately 125 feet downstream of Colony Avenue | None | +746
Waxdale Creek | At the confluence with the Pike River | +670 | +671 | Unincorporated Areas of Racine County, Village of Sturtevant.
| Approximately 70 feet downstream of West Road | +736 | +735
** BFEs to be changed include the listed downstream and upstream BFEs, and include BFEs located on the stream reach between the referenced locations above. Please refer to the revised Flood Insurance Rate Map located at the community map repository (see below) for exact locations of all BFEs to be changed.
* National Geodetic Vertical Datum.
# Depth in feet above ground.
+ North American Vertical Datum.
Send comments to William R. Blanton, Jr., Chief, Engineering Management Branch, Mitigation Directorate, Federal Emergency Management Agency, 500 C Street SW., Washington, DC 20472.
ADDRESSES
City of Racine
Maps are available for inspection at City Hall, 730 Washington Avenue, Racine, WI 53403-1146.
Unincorporated Areas of Racine County
Maps are available for inspection at Planning and Development Department, 14200 Washington Avenue, Sturtevant, WI 53177.
Village of Sturtevant
Maps are available for inspection at Village Hall, 2801 89th Street, Sturtevant, WI 53177-2033.
Village of Union Grove
Maps are available for inspection at Village Hall, 925 15th Avenue, Union Grove, WI 53182-1608.
Walworth County, Wisconsin, and Incorporated Areas
Eagle Spring Lake | All flooding affecting County | None | +822 | Unincorporated Areas of Walworth County.
Mukwonago River | Approximately 1,700 feet North of the intersection of Marsh Road and County Highway J | None | +799 | Unincorporated Areas of Walworth County.
| Approximately 1.2 miles Northeast of the intersection of County Highway J and County Highway E | None | +806
** BFEs to be changed include the listed downstream and upstream BFEs, and include BFEs located on the stream reach between the referenced locations above. Please refer to the revised Flood Insurance Rate Map located at the community map repository (see below) for exact locations of all BFEs to be changed.
* National Geodetic Vertical Datum.
# Depth in feet above ground.
+North American Vertical Datum.
Send comments to William R. Blanton, Jr., Chief, Engineering Management Branch, Mitigation Directorate, Federal Emergency Management Agency, 500 C Street, SW., Washington, DC 20472.
ADDRESSES
Unincorporated Areas of Walworth County
Maps are available for inspection at Office of Emergency Management, 1770 County Road NN, Elkhorn, WI 53121.
Washington County, Wisconsin, and Incorporated Areas
Edgewood Creek | At the confluence with North Creek | +946 | +947 | Unincorporated Areas of Washington County, Village of Kewaskum.
| Approximately 1,120 feet upstream of Kewaskum Village Limits | None | +981
Overflow | Approximately 115 feet downstream of Clinton Road | None | +937 | Unincorporated Areas of Washington County, Village of Kewaskum.
| At confluence with Edgewood Creek | None | +951
Kettleview Creek | At the confluence with Kewaskum Creek | +939 | +940 | Unincorporated Areas of Washington County, Village of Kewaskum.
| Downstream side of County Highway B | None | +1025
Kewaskum Creek | Just downstream of County Road H | +937 | +938 | Unincorporated Areas of Washington County, Village of Kewaskum.
| Approximately 800 feet downstream of Badger Road | None | +998
Overflow | At the confluence with Kettleview Creek | None | +946 | Unincorporated Areas of Washington County.
| At the confluence with Kewaskum Creek | None | +952
Knights Creek | At the confluence with North Creek | +953 | +952 | Unincorporated Areas of Washington County, Village of Kewaskum.
| Approximately 725 feet downstream of Highland Drive | None | +1032
Milwaukee River | Approximately 225 feet upstream of River Road | +884 | +887 | Unincorporated Areas of Washington County, City of West Bend.
| Downstream side of Barton Avenue | +903 | +902
| Upstream side of Hickory Road | None | +835 | Unincorporated Areas of Washington County, Village of Newburg.
| Approximately 2,900 feet upstream of Main Street | None | +850
North Creek | At the confluence with the Milwaukee River | +939 | +938 | Unincorporated Areas of Washington County, Village of Kewaskum.
| Approximately 100 feet downstream of Highland Drive | None | +1042
Quass Creek | Just upstream of County Highway I | +873 | +875 | Unincorporated Areas of Washington County, City of West Bend.
| Approximately 285 feet downstream of Paradise Drive | +981 | +979
Unnamed Tributary to Kewsaskum Creek | At the confluence with Kewaskum Creek | None | +955 | Unincorporated Areas of Washington County.
| Approximately 350 feet downstream of Kettleview Drive | None | +979
Unnamed Tributary to Wingate Creek | At the confluence with Wingate Creek | +873 | +874 | Unincorporated Areas of Washington County, City of West Bend.
| Approximately 420 feet downstream of Wallace Lake Road | None | +890
Wingate Creek | Just downstream of State Highway 33 | +871 | +870 | Unincorporated Areas of Washington County, City of West Bend.
| Approximately 420 feet downstream of Wallace Lake Road | None | +904
** BFEs to be changed include the listed downstream and upstream BFEs, and include BFEs located on the stream reach between the referenced locations above. Please refer to the revised Flood Insurance Rate Map located at the community map repository (see below) for exact locations of all BFEs to be changed.
* National Geodetic Vertical Datum.
+ North American Vertical Datum.
# Depth in feet above ground.
Send comments to William R. Blanton, Jr., Chief, Engineering Management Branch, Mitigation Directorate, Federal Emergency Management Agency, 500 C Street, SW., Washington, DC 20472.
ADDRESSES
City of West Bend
Maps are available for inspection at City Hall, 1115 South Main Street, West Bend, WI 53095.
Unincorporated Areas of Washington County
Maps are available for inspection at County Building, 432 East Washington Street, West Bend, WI 53095.
Village of Kewaskum
Maps are available for inspection at Village Hall, 204 First Street, Kewaskum, WI 53040.
Village of Newburg
Maps are available for inspection at Village Hall, 614 Main Street, Newburg, WI 53060.
Washakie County, Wyoming, and Incorporated Areas
Sage Creek | Downstream—just upstream of confluence with Bighorn River | None | +4056 | City of Worland, Unincorporated Areas of Washakie County.
| Upstream—approximately 400 ft downstream of intersection County Ln 13 and Upper Hanover Canal Rd | None | +4141
** BFEs to be changed include the listed downstream and upstream BFEs, and include BFEs located on the stream reach between the referenced locations above. Please refer to the revised Flood Insurance Rate Map located at the community map repository (see below) for exact locations of all BFEs to be changed.
* National Geodetic Vertical Datum.
+ North American Vertical Datum.
# Depth in feet above ground.
Send comments to William R. Blanton, Jr., Chief, Engineering Management Branch, Mitigation Directorate, Federal Emergency Management Agency, 500 C Street, SW., Washington, DC 20472.
ADDRESSES
City of Worland
Maps are available for inspection at 1001 Big Horn Avenue, Worland, WY 82401.
Town of Ten Sleep
Maps are available for inspection at 1001 Big Horn Avenue, Worland, WY 82401.
Unincorporated Areas of Washakie County
Maps are available for inspection at 1001 Big Horn Avenue, Worland, WY 82401.

(Catalog of Federal Domestic Assistance No. 97.022, “Flood Insurance.”)

Dated: December 18, 2007.
David I. Maurstad,
Federal Insurance Administrator of the National Flood Insurance Program, Department of Homeland Security, Federal Emergency Management Agency.

[FR Doc. E7-25307 Filed 12-27-07; 8:45 am]

BILLING CODE 9110-12-P